DEPARTMENT OF HOMELAND SECURITY

Coast Guard

33 CFR Parts 100 and 165

[USCG-2004-17638]

Quarterly Listings; Safety Zones, Security Zones, and Special Local Regulations

AGENCY: Coast Guard, DHS.

ACTION: Correcting amendments.

SUMMARY: The Coast Guard published a document in the Federal Register on May 4, 2004 (69 FR 24513), providing required notice of substantive rules issued by the Coast Guard and temporarily effective between January 1, 2004 and March 31, 2004. The document incorrectly used docket number USCG-2004-17636. This document revises the docket number.

DATES: This correction is effective May 17, 2004.

FOR FURTHER INFORMATION CONTACT: For questions on this notice contact LT Jeff Bray, Office of Regulations and Administrative Law, telephone (202) 267-2830.

SUPPLEMENTARY INFORMATION: In FR Doc. 04-9955 appearing on page 24513 in the Federal Register of Tuesday, May 4, 2004, make the following correction:

1. On page 24513, in the first column, the notice's docket number is revised to read as follows: [USCG-2004-17638].

Dated: May 17, 2004.
S. G. Venckus,
Chief, Office of Regulations and Administrative Law.

[FR Doc. 04-11571 Filed 5-20-04; 8:45 am]

BILLING CODE 4910-15-P